DEPARTMENT OF ENERGY

Federal Energy Regulatory Commission

[Docket No. CP08-400-000]

Tennessee Gas Pipeline Company; Notice of Request Under Blanket Authorization

May 21, 2008.

Take notice that on May 19, 2008, Tennessee Gas Pipeline Company (“Tennessee”), 1001 Louisiana, Houston, Texas 77002, filed in Docket No. CP08-400-000, a prior notice request pursuant to sections 157.205, 157.208(c), and 157.212 of the Federal Energy Regulatory Commission's regulations under the Natural Gas Act for authorization to construct, own, and operate an interconnection with Kinder Morgan Louisiana Pipeline, LLC (“KMLP”) located in Jefferson Davis Parish, Louisiana to receive re-vaporized liquefied natural gas (LNG), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Tennessee proposes to establish a new interconnection with KMLP on Tennessee's pipeline designated as Line 507C-100 located in Jefferson Davis Parish, Louisiana. Tennessee will install a 20-inch hot tap along with appurtenances. KMLP will install a related tap and metering facilities pursuant to section 7 authorization granted by the Commission in Docket No. CP06-449. The interconnection will allow KMLP to deliver, and Tennessee to receive, up to 500 MMcf per day. The cost of Tennessee's interconnection facilities is estimated to be $392,000 for which Tennessee will be fully reimbursed by KMLP.

Any questions regarding the application should be directed to Jay V. Allen, Senior Counsel, Tennessee Gas Pipeline Company, 1001 Louisiana, Houston, Texas 77002, at (713) 420—5589 or fax (713) 420-1601 or Juan Eligio, Analyst, Certificates & Regulatory Compliance, at (713) 420-3294 or fax (713) 420-1605.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205), file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-11913 Filed 5-28-08; 8:45 am]

BILLING CODE 6717-01-P